FEDERAL COMMUNICATIONS COMMISSION

47 CFR Part 20

[WT Docket No. 23-388; FCC 24-112; FR ID 327224]

Achieving 100% Wireless Handset Model Hearing Aid Compatibility

AGENCY: Federal Communications Commission.

ACTION: Final rule; announcement of effective date; correction.

SUMMARY: The Federal Communications Commission (Commission) announces that the Office of Management and Budget (OMB) has approved, for a period of three years, information collections associated with the certain rules adopted in the Achieving 100% Wireless Handset Model Hearing Aid Compatibility Report and Order, FCC 24-112. This announcement also corrects a typographical error in the final rules.

DATES: The rule amendments contained in 47 CFR 20.19(b)(3)(iii), (f), (h), and (i), published at 89 FR 89832, November 13, 2024, with a Correction published at 89 FR 105473, December 27, 2024, are effective on January 26, 2026.

FOR FURTHER INFORMATION CONTACT: For additional information, contact Cathy Williams, at (202) 418-2918 or via email: Cathy.Williams@fcc.gov.

SUPPLEMENTARY INFORMATION: This document announces that on May 7, 2025, OMB approved, for a period of three years, the information collection requirements contained in the Commission's Report and Order, FCC 24-112, published at 89 FR 89832, November 13, 2024, with a Correction published at 89 FR 105473, December 27, 2024. The OMB Control Number for this information collection is 3060-0999. The Commission publishes this document as an announcement of the effective dates of the information collection requirements and to correct a typographic error in the final rules.

Synopsis

As required by the Paperwork Reduction Act of 1995 (44 U.S.C. 3507), the Commission is notifying the public that it received OMB approval on May 7, 2025, for the information collection requirements contained in the revisions at 47 CFR 20.19(b)(3)(iii), (f), (h), and (i) under OMB Control Number 3060-0999. Under 5 CFR part 1320, an agency may not conduct or sponsor a collection of information unless it displays a current, valid OMB Control Number. No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control No.: 3060-0999.

Title: Hearing Loss Compatible Wireless Handsets Section 20.19 and Hearing Aid Compatibility Act.

Form Numbers: FCC Form 655 and 855.

Type of Review: Revision to the currently approved collection.

Respondents: Business or other for-profit entities.

Number of Respondents: 934 respondents; 934 responses.

Estimated Time per Response: 13.92 hours per response (average).

Frequency of Response: On occasion and annual reporting requirements, recordkeeping requirements, and third-party disclosure requirements.

Obligation to Respond: Required to obtain or retain benefits. Statutory authority for this information collection is contained in 47 U.S.C. 151, 154(i), 157, 160, 201, 202, 214, 301, 303, 308, 309(j), 310 and 610 of the Communications Act of 1934, as amended.

Total Annual Burden: 12,998 hours.

Total Annual Cost: No cost.

Needs and Uses: This information collection relates to the Commission's Hearing Loss Compatible Wireless Handsets rules at section 20.19 of the Commission's rules. This revision is necessary to implement the final rules that the Commission adopted on October 17, 2024, in a Report and Order, WT Docket No. 23-388, FCC 24-112, and that the Commission released on October 18, 2024. This Report and Order delayed until OMB approval the following amendments to section 20.19: (1) adding paragraph (b)(3)(iii); (2) revising the heading of paragraph (f); (3) adding paragraph (f)(3); (4) revising paragraph (h); (5) redesignating paragraph (i)(4) as paragraph (i)(6); and (6) adding new paragraph (i)(4) and paragraph (i)(5). The revisions that the Commission adopted to these sections contain new or modified information collections subject to the Paperwork Reduction Act of 1995 (PRA), Public Law 104-13. This document is consistent with the Report and Order, which stated that the Commission would publish a document in the Federal Register announcing OMB approval and the effective date of the information collection requirements contained in these sections.

The final rules that the Commission adopted require all future wireless handset models to be hearing aid compatible. These revised rules ensure that consumers with hearing loss will have equal access to the same handset models as consumers without hearing loss. In order to ensure compliance with the 100% hearing aid compatiblity requirement, the Commission adopted a Bluetooth equipment certification requirement and updated labeling, website posting, and annual handset manufacturers and service provider certification requirements. In addition, the Commission eliminated outdated information collection requirements, including labeling, website posting, and certification requirements, as well as eliminating all record retention requirements. The elimination of these requirements significantly reduces regulatory burden and cost for handset manufacturers and service providers and results in an information collection that is based on minimually necessary requirements and tied to specific statutory provisions.

The revised hearing aid compatiblility rules include a requirement that a certain number of handset models that handset manufacturers and service providers offer for sale or use in the United States meet Bluetooth coupling requirements. This Bluetooth coupling requirement will benefit consumers by ensuring more universal connectivity between handset models and hearing aids, including over-the-counter hearing aids, and reduces the issue of certain handset models only being able to pair with certain hearing aids. In order to ensure compliance with this new Bluetooth coupling requirement, the Commisison adopted the recommendation of the Hearing Aid Compatibility Task Force (HAC Task Force) and Samsung that handset manufacturers be required to submit a sworn declaration attesting to a new handset model's complaince with this pairing requirement. This attestation requirement is contained in section 20.19(b)(3)(iii) of the rules the Commission adopted and requires handset manufacturers to provide: (1) the specific Bluetooth coupling standard included in each handset model; (2) that the relevant handset model has been tested to ensure compliance with the designated Bluetooth coupling standard; and (3) after the transition to a non-proprietary Bluetooth coupling requirement, that the included Bluetooth coupling technology is consistent with certain Bluetooth functionality requirements. This attestation requirement was adopted pursuant to section 710(c) of the Communications Act which requires the Commission to establish or approve such technical standards as are required to ensure the compatibility of handsets models with hearing aids.

With respect to package labeling requirements, the Commission decided to maintain the requirement that the external packaging of a handset model indicate that the handset model is hearing aid compatible, and provide the handset model's conversational gain with and without hearing aids, if the handset model is certified as hearing aid-compatible under a standard that includes volume control requirements. The Commission also required a handset model's external packaging to indicate whether the handset model meets telecoil or Bluetooth coupling requirements or both, and in the case of Bluetooth coupling, which Bluetooth coupling technology the handset model includes. The Commission continued to allow handset manufacturers and service providers to design their own printed package labels as long as the labels include the required information. These external package label requirements ensure that the most pertinent information appears on the outside of the package and allows consumers to compare handset models by comparing package labels.

The Commission updated its internal package labeling requirements and removed outdated requirements. A handset model's internal packaging must include information on the hearing aid compatiblity settings of the handset model and how consumers can turn these settings on and off. In addition, the Commission eliminated the requirement that package inserts and user manuals must provide the M/T ratings of handset models certified under the 2011 ANSI Standard or older ANSI standards or provide an explanation of the ANSI M/T rating system. The Commission regonized that the new ANSI technical standard used for certifying handset models as hearing aid-compatible no longer utilizes the M/T rating system. The revised internal packaging requirements allow consumers who are interested in more detailed information about a handset model's hearing aid compatibility then is provide on the external label to find this additional information in a handset model's package insert or user manual.

The revised labeling requirements are in section 20.19(f)(1) and (2) of the rules the Commission adopted. These rules are consistent with section 710(d) of the Communications Act, which requires the Commission to establish requirements for labeling “as are needed to provide adequate information to consumers on the compatibility between telephones and hearing aids.” The information that the Commission is requiring handset manufacturers and service providers to provide to consumers allows consumers to be fully informed about a handset model's functions and capabilities and to make informed purchasing decisions.

In addition to these revised labeling rules, the Commission decided to allow handset manufacturers and service providers to use digital labeling technology as an alternative to including a printed insert or printed handset manual in a handset model's packaging. Handset manufacturers and service providers choosing this option must maintain publicly accessible websites where consumers can find the required hearing aid compatiblity information, and they must provide consumers with a Quick-Respone (QR) code and the related website address where the required hearing aid compatibility information can be found. The Commission decided to allow the use of digital labeling technology at the request of handset manufacturers and service providers who argued that the use of digital labeling would reduce regulatory burden and cost. The use of digital labeling will also ensure that consumers have access to the most up-to-date handset model information. The Commission's new digital labeling rules are in section 20.19(f)(3) of the rules the Commission adopted.

The Commission updated and streamlined its publicly accessible website posting requirements to be consistent with the 100% hearing aid compatiblity requirement. The Commission requires handset manufacturers and service providers to indicate the type of coupling technologies that their handset models include and whether the handset models meet volume control requirements. The Commission also adopted point-of-contact requirements that consumers can use to ask knowledgable company employees handset model compatiblity questions. These website posting requirements can be found in section 20.19(h) of the rules the Commission adopted, and these rules are consistent with section 610(a) of the Communications Act which requires the Commission to establish regulations that are necessary to ensure reasonable access to telephone service by persons with impaired hearing and section 610(d) which requires the Commission to establish labeling requirments that provide adequate information to consumers on the compatibility between mobile handset models and hearing aids.

The Commission also eliminated certain website posting requirements which it determined are no longer revelvent with the adoption of a 100% hearing aid compatiblity requirement. These provisions include posting requirements concerning a handset model's M/T ratings and providing an explanation of the M/T rating system. In addition, service providers will no longer be required to post: (1) a list of all the non-hearing aid-compatible handset models that they offer, including the marketing model name/number(s) and FCC ID number, or a list of all hearing aid-compatible handset models that they offered in the past 24 months but no longer offer, and (2) a link to a third-party website as designated by the Commission or the Wireless Telecommunications Bureau, with information regarding hearing aid-compatible and non-hearing aid-compatible handset models.

In addition, the Commission eliminated all record retention requirements. These provisions required service providers to retain certain information about handset models they no longer offer for sale or use in the United States. Specifically, service providers will no longer be required to retain internal records for discontinued handset models, and the associated information that they presently have to make available to the Commission upon request. This handset model information includes: (1) the month/year each hearing aid-compatible and non-hearing aid-compatible handset model was first offered; and (2) the month/year each hearing aid-compatible and non-hearing aid-compatible handset model was last offered for all discontinued handset models until a period of 24 months has passed from that date.

The elimination of outdated website and record retention requirements significantly reduces regulatory burden and cost for handset manufacturers and service providers. The revised website posting requirements are in section 20.19(h) of the rules the Commission adopted.

Further, the Commission revised its annual certification requirements for handset manufacturers and service providers. After the 100% hearing aid compatibility transition period ends for handset manufacturers, these companies will no longer file FCC Form 655. Instead, handset manufacturers will start filing FCC Form 855 and service providers will continue to file this form. FCC Form 855 is a streamlined certification form that does not require the detail handset model information that FCC Form 655 collects. This change will significantly reduce regulatory burden and cost for handset manufacturers and was fully supported by commenters.

Finally, the Commission is updating FCC Form 855 to ensure it collects only the minumal amount of relevent information needed to ensure complaince with the 100% hearing aid compatibility requirement. These updates include removing outdated questions related to the current 85% handset model deployment benchmark. The Commission will require handset manufacturers to file FCC Form 855 by January 31 each year rather than the June 30 deadline for FCC Form 655. This change aligns the filing deadline for handset manufacturers with the filing deadline for service providers and allows the reporing period to cover the entire previous calendar year rather than parts of two calendar years. The revised annual certification requirements are in section 20.19 (i)(4) and (5) of the rules the Commission adopted.

In addition, in FR Doc. 2024-25088 appearing at 89 FR 89832 in the Federal Register on Wednesday, November 13, 2024, the following correction is made:

§ 20.19 [Corrected]

On page 89868, in the second column, in § 20.19, in amendment 4, redesignate the second paragraph (f)(1)(ii) as paragraph (f)(1)(iii).

Federal Communications Commission.
Marlene Dortch,
Secretary, Office of the Secretary.

[FR Doc. 2026-01441 Filed 1-23-26; 8:45 am]

BILLING CODE 6712-01-P